DEPARTMENT OF COMMERCE

International Trade Administration

[A-423-808]

Stainless Steel Plate in Coils from Belgium

ACTION: Notice of Rescission of Antidumping Duty Administrative Review for the Period May 1, 2001, through April 30, 2002.

AGENCY: Import Administration, International Trade Administration, U.S. Department of Commerce.

SUMMARY: In response to a timely request from respondent, ALZ N.V. (ALZ) and its affiliated U.S. importer, TrefilARBED, Inc., the Department of Commerce (the Department) initiated an administrative review of the antidumping duty order on stainless steel plate in coils from Belgium, covering the period May 1, 2001, to April 30, 2002. See Initiation of Antidumping and Countervailing Duty Administrative Reviews and Requests for Revocation in Part, 67 FR 42753 (June 25, 2002). Because ALZ has submitted a timely withdrawal of its request for an administrative review, and there was no request for review from any other interested party, the Department is rescinding this review in accordance with section 351.213(d)(1) of the Department's regulations.

EFFECTIVE DATE: October 22, 2002.

FOR FURTHER INFORMATION CONTACT: Elfi Blum or Maureen Flannery, AD/CVD Enforcement, Import Administration, International Trade Administration, U.S. Department of Commerce, 14th Street and Constitution Avenue, N.W., Washington D.C. 20230; telephone: (202) 482-0197 or (202) 482-3020, respectively.

SUPPLEMENTARY INFORMATION:

Applicable Statute and Regulations

Unless otherwise indicated, all citations to the statute are references to the provisions of the Tariff Act of 1930, as amended (the Act). In addition, unless otherwise indicated, all citations to the Department's regulations are to the provisions codified at 19 CFR Part 351 (2002).

Background

On May 6, 2002, the Department published a notice of opportunity to request an administrative review of the antidumping duty order on stainless steel plate in coils from Belgium. See Antidumping or Countervailing Duty Order, Finding, or Suspended Investigation; Opportunity To Request Administrative Review (67 FR 30356). On May 31, 2002, the Department received a timely request from one respondent, ALZ, for an administrative review covering the period from May 1, 2001 through April 30, 2002, in accordance with 19 CFR 351.213(b)(1).

The Department published a notice of initiation of this antidumping duty administrative review on June 25, 2002. See Initiation of Antidumping and Countervailing Duty Administrative Reviews and Request for Revocation in Part, 67 FR 42753 (June 25, 2002). This review covers one manufacturer/exporter of the subject merchandise, ALZ, for the period of June 1, 2000 through May 31, 2001. On September 23, 2002, ALZ withdrew its request for review, in accordance with section 351.213(d)(1) of the Department's regulations.

Rescission, in Whole, of Antidumping Duty Administrative Review

Pursuant to our regulations, the Department will rescind an administrative review, “if a party that requested the review withdraws the request within 90 days of the date of publication of notice of initiation of the requested review.” See 19 CFR 351.213(d)(1). Since ALZ, the only respondent in this proceeding, submitted a timely withdrawal of its request for review, the Department is rescinding its antidumping administrative review on stainless steel plate in coils from Belgium for the period May 1, 2001 through April 30, 2002. The Department will issue appropriate assessment instructions to the Customs Service.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Dated: October 10, 2002.
Joseph A. Spetrini,
Deputy Assistant Secretary for Import Administration.

[FR Doc. 02-26857 Filed 10-21-02; 8:45 am]

BILLING CODE 3510-DS-S